COMMISSION ON CIVIL RIGHTS

Notice of Public Meeting of the Florida Advisory Committee for a Meeting To Discuss Potential Project Topics

AGENCY: U.S. Commission on Civil Rights.

ACTION: Announcement of meeting.

SUMMARY: Notice is hereby given, pursuant to the provisions of the rules and regulations of the U.S. Commission on Civil Rights (Commission) and the Federal Advisory Committee Act that the Florida Advisory Committee (Committee) will hold a meeting on Tuesday, June 23, 2015, at 12:00 p.m. EST for the purpose of updating new members on the human trafficking subcommittee preparatory work and to discuss potential projects moving forward.

Members of the public can listen to the discussion. This meeting is available to the public through the following toll-free call-in number: 1-888-539-3612, conference ID: 8058593. Any interested member of the public may call this number and listen to the meeting. An open comment period will be provided to allow members of the public to make a statement at the end of the meeting. The conference call operator will ask callers to identify themselves, the organization they are affiliated with (if any), and an email address prior to placing callers into the conference room. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and conference ID number.

Members of the public are also entitled to submit written comments; the comments must be received in the regional office by July 23, 2015. Written comments may be mailed to the Southern Regional Office, U.S. Commission on Civil Rights, 61 Forsyth Street, Suite 16T126, Atlanta, GA 30303. They may also be faxed to the Commission at (404) 562-7005, or emailed to Regional Director, Jeffrey Hinton at jhinton@usccr.gov. Persons who desire additional information may contact the Southern Regional Office at (404) 562-7000.

Records and documents discussed during the meeting will be available for public viewing prior to and after the meeting at http://facadatabase.gov/committee/meetings.aspx?cid=242 and clicking on the “Meeting Details” and “Documents” links. Records generated from this meeting may also be inspected and reproduced at the Southern Regional Office, as they become available, both before and after the meeting. Persons interested in the work of this Committee are directed to the Commission's Web site, http://www.usccr.gov, or may contact the Southern Regional Office at the above email or street address.

Agenda

Call to Order

Dr. Elena Flom, Chair & Jeffrey Hinton, Regional Director, SRO

Introduction of members to the committee

Training requirements: Ethics training and Financial Disclosure form

Status Report of subcommittee: Human Trafficking (Introduction of subject proposed to new members)

Committee consideration of proposals of subcommittee.

New Business—Nomination of Vice Chairman: Dr. Elena Flom, Chair

Open Comment

Adjourn

DATES: The meeting will be held on Tuesday, June 23, 2015 at 12:00 p.m. EST.

PUBLIC CALL INFORMATION:

Dial: 888-539-3612

Conference ID: 8058593

FOR FURTHER INFORMATION CONTACT: Jeff Hinton, DFO, at 404-562-7006 or jhinton@usccr.gov.

Dated: June 3, 2015.
David Mussatt,
Chief, Regional Programs Unit.

[FR Doc. 2015-13938 Filed 6-5-15; 8:45 am]

BILLING CODE 6335-01-P